DEPARTMENT OF TRANSPORTATION

Federal Aviation Administration

Agency Information Collection Activity Under OMB Review

AGENCY: Federal Aviation Administration (FAA), DOT.

ACTION: Notice.

SUMMARY: In compliance with the Paperwork Reduction Act of 1995 (44 U.S.C. 3501 et seq.), this notice announces that the Information Collection Request (ICR) abstracted below has been forwarded to the Office of Management and Budget (OMB) as a request for review and approval. The ICR describes the nature of the information collection and the expected burden. The Federal Register Notice allowing for a 60-day comment period on the collection of information was published on 12/28/2000, page 82453-82454.

DATES: Comments must be submitted on or before April 25, 2001. A comment to OMB is most effective if OMB receives it within 30 days of publication.

FOR FURTHER INFORMATION CONTACT: Judy Street on (202) 267-9895.

SUPPLEMENTARY INFORMATION:

Federal Aviation Administration (FAA)

Title: Noise Levels for U.S. Certificated and Foreign Aircraft; Estimated Airplane Noise Levels in A-Weighted Decibels.

Type of Request: New request.

OMB Control Number: 2120-XXXX.

Form(s): N/A.

Affected Public: An estimated 50 aircraft manufacturers/modifiers.

Abstract: The FAA proposes to collect current data from aircraft manufacturers (or modifiers) to update the two AC's. The following will be the method used. First, a draft revision to AC 36-1G and AC 36-3G containing information that resides within the FAA will be produced. The draft AC's will then be sent to each aircraft manufacturer and modifier advising them that the Advisory Circulars are being updated and asking them to (1) review the draft AC's for consistency with the aircraft manufacturer's (or modifier's) records, and (2) provide any additions or corrections to the information in the draft AC's.

Estimated Annual Burden Hours: 875 hours one time.

ADDRESSES: Send comments to the Office of Information and Regulatory Affairs, Office of Management and Budget, 725 17th Street, NW., Washington, DC 20503, Attention FAA Desk Officer.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Issued in Washington, DC, on March 20, 2001.
Steve Hopkins,
Manager, Standards and Information Division, APF-100.

[FR Doc. 01-7425 Filed 3-23-01; 8:45 am]

BILLING CODE 4910-13-M